DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date: September 21, 2011, 9 a.m.-2:30 p.m.; September 22, 2011, 10 a.m.-3 p.m.

Place: Embassy Row Hotel, 2015 Massachusetts Avenue, NW., Washington, DC 20036, (202) 265-1600.

Status: Open.

Purpose: At this meeting the Committee will hear presentations and hold discussions on several health data policy topics. On the morning of the first day the Committee will hear updates from the Department, the Center for Medicare and Medicaid Services, and the Office of the National Coordinator. In addition, there will be an update on the Committee's next HIPAA Report to Congress and a briefing on the Joint Population/Privacy Subcommittee Community Health Data Report, which includes a plan for an informational primer. In the afternoon, a discussion of three letters to the HHS Secretary is planned regarding (1) Standards and Operating Rules Development and Maintenance; (2) Status of implementation/transition to 5010/ICD-10; and (3) Adoption of electronic acknowledgement transaction standards.

On the morning of the second day there will be a review of the final data standards letters along with initial plans for a Standards Primer on HIPAA Transactions and Code Sets. There will also be a briefing on the DHHS Action Plan for Eliminating Health Disparities. Subcommittees will also report on their strategic plans and next steps.

The times shown above are for the full Committee meeting. Subcommittee breakout sessions are scheduled for late in the afternoon on the first day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: August 25, 2011.
James Scanlon,
Deputy Assistant Secretary for Planning and Evaluation, Office of the Assistant Secretary for Planning and Evaluation.

[FR Doc. 2011-22340 Filed 8-31-11; 8:45 am]

BILLING CODE 4151-05-P